DEPARTMENT OF COMMERCE

National Oceanic and Atmospheric Administration

[I.D. 090704B]

Pacific Fishery Management Council; Public Meeting

AGENCY: National Marine Fisheries Service (NMFS), National Oceanic and Atmospheric Administration (NOAA), Commerce.

ACTION: Notice of public meetings.

SUMMARY: The Pacific Fishery Management Council's (Council) Coastal Pelagic Species Advisory Subpanel (CPSAS) and Coastal Pelagic Species Management Team (CPSMT) will hold work sessions, which are open to the public.

DATES: The CPSAS will meet Tuesday, September 28, 2004 from 9 a.m. to 5 p.m. and Wednesday, September 29, 2004 from 9 a.m. until business for the day is completed. The CPSMT will meet Thursday, September 30, 2004 from 9 a.m. until business for the day is completed.

ADDRESSES: The meetings will be held at NMFS, Southwest Region, Glenn Anderson Federal Building, 501 West Ocean Blvd., Conference Room 3300, Long Beach, CA 90802; telephone: (562) 980-4000.

Council address: Pacific Fishery Management Council, 7700 NE Ambassador Place, Suite 200, Portland, OR 97220-1384.

FOR FURTHER INFORMATION CONTACT: Mr. Dan Waldeck, Pacific Fishery Management Council; telephone: (503) 820-2280.

SUPPLEMENTARY INFORMATION: The CPSAS will meet to continue to work on developing alternatives for annual allocation of the Pacific sardine harvest guideline. The CPSAS will also review the 2004 Pacific sardine stock assessment and harvest guideline recommendation for the 2005 season. The CPSMT will focus on review of the Pacific sardine stock assessment and harvest guideline recommendation, they will also be briefed on the allocation alternatives being developed by the CPSAS.

Although non-emergency issues not contained in the meeting agenda may come before the CPSAS or CPSMT for discussion, those issues may not be the subject of formal action during this meeting. Action will be restricted to those issues specifically listed in this document and any issues arising after publication of this document that require emergency action under Section 305(c) of the Magnuson-Stevens Fishery Conservation and Management Act, provided the public has been notified of the CPSAS's or CPSMT's intent to take final action to address the emergency.

Special Accommodations

The meeting is physically accessible to people with disabilities. Requests for sign language interpretation or other auxiliary aids should be directed to Ms. Carolyn Porter at (503) 820-2280 at least 5 days prior to the meeting date.

Dated: September 8, 2004.
Alan D. Risenhoover,
Acting Director, Office of Sustainable Fisheries, National Marine Fisheries Service.

[FR Doc. E4-2161 Filed 9-10-04; 8:45 am]

BILLING CODE 3510-22-S